DEPARTMENT OF THE INTERIOR

Bureau of Land Management

[19X R4079V4 RX.12255301.3000000 AZA25613]

Public Land Order No. 7877; Extension of Public Land Order No. 7384; Arizona

AGENCY: Bureau of Land Management, Interior.

ACTION: Notice of Public Land Order.

SUMMARY: This Public Land Order (PLO) extends the duration of the withdrawal created by PLO No. 7384 for an additional 20-year term. PLO No. 7384 would otherwise expire on April 19, 2019. This extension is necessary to continue to protect the value of the capital investments, water-oriented developments, and dispersed recreation in the Bureau of Reclamation's (BOR) Lake Pleasant expansion area. PLO No. 7384 withdrew 1,988.27 acres of public lands from settlement, sale, location, and entry under the general public land laws, including the United States mining laws, but not from leasing under the mineral leasing laws for a 20-year period. The lands have been and will remain open to mineral and geothermal leasing.

DATES: This PLO takes effect on April 20, 2019.

FOR FURTHER INFORMATION CONTACT: Sara Ferreira, Land Law Examiner, at telephone 602-417-9598 or by email at sferreir@blm.gov, Bureau of Land Management, Arizona State Office, One North Central Ave., Suite 800, Phoenix, AZ 85004. Persons who use a telecommunications device for the deaf (TDD) may call the Federal Relay Service (FRS) at 1-800-877-8339 to contact Ms. Ferreira. The FRS is available 24 hours a day, 7 days a week, to leave a message or question. You will receive a reply during normal business hours.

SUPPLEMENTARY INFORMATION: This Order extends the existing withdrawal to continue to protect the capital investments, water-oriented developments, and dispersed recreation resources in the Lake Pleasant Expansion area.

ORDER

By virtue of the authority vested in the Secretary of the Interior by Section 204 of the Federal Land Policy and Management Act of 1976, 43 U.S.C. 1714, it is ordered as follows:

1. Subject to valid existing rights, PLO No 7384, (64 FR 19386, (1999)), which withdrew public lands from settlement, sale, location, and entry under the general public land laws, including the United States mining laws, but not from leasing under the mineral leasing laws is hereby extended for an additional 20-year period to protect the Bureau of Reclamation's Lake Pleasant expansion area.

2. The withdrawal extended by this Order will expire on April 19, 2039, unless as a result of review conducted prior to the expiration date pursuant to Section 204(f) of the Federal Land Policy and Management Act of 1976, 43 U.S.C. 1714(f), the Secretary determines the withdrawal shall be further extended.

Dated: April 3, 2019.
Joseph R. Balash,
Assistant Secretary—Land and Minerals Management.

[FR Doc. 2019-07030 Filed 4-9-19; 8:45 am]

BILLING CODE 4332-90-P